DEPARTMENT OF THE INTERIOR

National Park Service

[NPS-WASO-NAGPRA-NPS0033464; PPWOCRADN0-PCU00RP14.R50000]

Notice of Intent To Repatriate Cultural Items: Cheekwood Estate and Gardens, Nashville, TN

AGENCY: National Park Service, Interior.

ACTION: Notice.

SUMMARY: The Cheekwood Estate and Gardens (Cheekwood), in consultation with the appropriate Indian Tribes or Native Hawaiian organizations, has determined that the cultural items listed in this notice meet the definition of either sacred objects or objects of cultural patrimony. Lineal descendants or representatives of any Indian Tribe or Native Hawaiian organization not identified in this notice that wish to claim these cultural items should submit a written request to the Cheekwood Estate and Gardens. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Cheekwood Estate and Gardens at the address in this notice by April 4, 2022.

FOR FURTHER INFORMATION CONTACT: Hannah Morgan, Cheekwood Estate and Gardens, 1200 Forrest Park Drive, Nashville, TN 37205, telephone (615) 353-2160, email hmorgan@cheekwood.org.

SUPPLEMENTARY INFORMATION: Notice is here given in accordance with the Native American Graves Protection and Repatriation Act (NAGPRA), 25 U.S.C. 3005, of the intent to repatriate cultural items under the control of the Cheekwood Estate and Gardens, Nashville, TN, that meet the definition of either sacred objects or objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1960, Cheekwood received on loan eight sacred objects and three objects of cultural patrimony. In 1972, Cheekwood formally accessioned these objects. The eight sacred objects are one t-type pipestone pipe bowl; one ribbon-wrapped pipe stem attributed to Taoyate Duta (Chief Little Crow); one beaded, twisted and painted pipe stem; one beaded, velvet pipe bag; one eagle claw pipestone pipe bowl; one ribbon-wrapped pipe stem; one war shield; and one whip handle. The three objects of cultural patrimony are one stone maul, one stone mace, and one bow with lightning design.

Based on consultation with representatives of the Prairie Island Indian Community in the State of Minnesota, Cheekwood has determined the identity of these 11 cultural items and their cultural affiliation with this Indian Tribe.

Determinations Made by the Cheekwood Estate and Gardens

Officials of the Cheekwood Estate and Gardens have determined that:

• Pursuant to 25 U.S.C. 3001(3)(C), the eight cultural items described above are specific ceremonial objects needed by traditional Native American religious leaders for the practice of traditional Native American religions by their present-day adherents.

• Pursuant to 25 U.S.C. 3001(3)(D), the three cultural items described above have ongoing historical, traditional, or cultural importance central to the Native American group or culture itself, rather than property owned by an individual.

• Pursuant to 25 U.S.C. 3001(2), there is a relationship of shared group identity that can be reasonably traced between the sacred objects and objects of cultural patrimony and the Prairie Island Indian Community in the State of Minnesota.

Additional Requestors and Disposition

Lineal descendants or representatives of any Indian Tribe or Native Hawaiian organization not identified in this notice that wish to claim these cultural items should submit a written request with information in support of the claim to Hannah Morgan, Cheekwood Estate and Gardens, 1200 Forrest Park Drive, Nashville, TN 37205, telephone (615) 353-2160, email hmorgan@cheekwood.org, by April 4, 2022. After that date, if no additional claimants have come forward, transfer of control of the sacred objects and objects of cultural patrimony to the Prairie Island Indian Community in the State of Minnesota may proceed.

The Cheekwood Estate and Gardens is responsible for notifying the Prairie Island Indian Community in the State of Minnesota that this notice has been published.

Dated: February 23, 2022.
Melanie O'Brien,
Manager, National NAGPRA Program.

[FR Doc. 2022-04446 Filed 3-2-22; 8:45 am]

BILLING CODE 4312-52-P